DEPARTMENT OF COMMERCE

International Trade Administration

[A-533-824]

Polyethylene Terephthalate Film, Sheet, and Strip From India: Final Results of Antidumping Duty Administrative Review; 2017-2018

AGENCY: Enforcement and Compliance, International Trade Administration, U.S. Department of Commerce.

SUMMARY: The Department of Commerce (Commerce) determines that Jindal Poly Films Ltd. (India) (Jindal) made sales of subject merchandise below normal value, but that SRF Limited of India (SRF) did not make sale of subject merchandise below normal value. The period of review (POR) is July 1, 2017 through June 30, 2018.

DATES: Applicable March 16, 2020.

FOR FURTHER INFORMATION CONTACT: Jacqueline Arrowsmith, AD/CVD Operations, Office VII, Enforcement and Compliance, International Trade Administration, U.S. Department of Commerce, 1401 Constitution Avenue NW, Washington, DC 20230; telephone (202) 482-5255.

SUPPLEMENTARY INFORMATION:

Background

On September 12, 2019, Commerce published the Preliminary Results.¹

¹ See Polyethylene Terephthalate Film, Sheet, and Strip from India: Preliminary Results and Partial Rescission of Antidumping Duty Administrative Review; 2017-2018, 84 FR 48123 (September 12, 2019) (Preliminary Results).

On December 30, 2019, we extended these final results from January 10, 2020 until March 10, 2020.²

² See Memorandum, “Polyethylene Terephthalate Film, Sheet and Strip from India: Extension of Deadline for Final Results of Antidumping Duty Administrative Review,” dated December 30, 2019.

Scope Of the Order

The products covered by the order are all gauges of raw, pretreated, or primed polyethylene terephthalate film, sheet, and strip (PET Film), whether extruded or coextruded. Excluded are metallized films and other finished films that have had at least one of their surfaces modified by the application of a performance-enhancing resinous or inorganic layer of more than 0.00001 inches thick. Imports of PET Film are currently classifiable in the Harmonized Tariff Schedule of the United States (HTSUS) under item number 3920.62.00.90. HTSUS subheadings are provided for convenience and customs purposes. The written description of the scope of the order is dispositive.

Analysis of Comments Received

We addressed all the issues raised in the case brief submitted by Jindal, the sole brief submitted by an interested party, in the the Issues and Decision Memorandum.³ We provided a list of all the issues raised by Jindal in the appendix to this notice. The Issues and Decision Memorandum is a public document and is on file electronically via Enforcement and Compliance's Antidumping and Countervailing Duty Centralized Electronic Service System (ACCESS). ACCESS is available to registered users at http://access.trade.gov, and is available to all parties in the Central Records Unit, Room B8024 of the main Commerce building. In addition, a complete version of the Issues and Decision Memorandum can be accessed directly on the internet at http://enforcement.trade.gov/frn/. The signed and electronic versions of the Issues and Decision Memorandum are identical in content.

³ See Memorandum, “Issues and Decision Memorandum for the Final Results of Antidumping Duty Administrative Review: Polyethylene Terephthalate Film from India; 2017-2018 Administrative Review,” dated concurrently with, and hereby adopted by, this notice (Issues and Decision Memorandum).

Changes Since the Preliminary Results

Based on our review of the record and comments received from Jindal regarding the Preliminary Results, we made certain revisions to the Jindal's home market and U.S. margin calculations.⁴ The Issues and Decision Memorandum contains additional details of these revisions. We also updated the export subsidies in the U.S. margin programs to account for changes in the concurrent countervailing duty administrative review for both Jindal and SRF.⁵

⁴ See Memorandum, “Final Results of the Antidumping Duty Administrative Review of Polyethylene Terephthalate Film, Sheet, and Strip from India: Jindal Poly Films Ltd. (India) (Jindal),” dated concurrently with this memorandum (Jindal Final Calculation Memorandum).

⁵ See Jindal Final Calculation Memo; see also Memorandum ” Final Results of the Antidumping Duty Administrative Review of Polyethylene Terephthalate Film, Sheet, and Strip from India: SRF Limited,” dated concurrently with this memorandum.

Final Results of Review

As a result of this review, we determine the following weighted-average dumping margins exist for the period July 1, 2017 through June 30, 2018.

Manufacturer/exporter | Weighted- Average Margin (percent)
Jindal Poly Films Ltd. (India) | 4.45
SRF Limited of India | 0.00
Ester Industries Limited | 4.45
Garware Polyester Ltd | 4.45
Polyplex Corporation Ltd | 4.45
Vacmet India Limited | 4.45

Disclosure and Public Comment

We intend to disclose the calculations performed to parties in this proceeding within five days after public announcement of the final results in accordance with section 751(a) and 19 CFR 351.224(b).

Assessment Rates

Upon completion of this administrative review, Commerce shall determine and U.S. Customs and Border Protection (CBP) shall assess antidumping duties on all appropriate entries. If a respondent's weighted-average dumping margin is not zero or de minimis (i.e., less than 0.5 percent) in the final results of this review, we will calculate importer-specific ad valorem assessment rates on the basis of the ratio of the total amount of dumping calculated for an importer's examined sales and the total entered value of such sales in accordance with 19 CFR 351.212(b)(1). Where either the respondent's weighted-average dumping margin is zero or de minimis within the meaning of 19 CFR 351.106(c), or an importer-specific rate is zero or de minimis, we will instruct CBP to liquidate the appropriate entries without regard to antidumping duties.

For entries of subject merchandise produced by Jindal or SRF for which it did not know its merchandise was destined for the United States, we will instruct CBP to liquidate unreviewed entries at the all-others rate established in the less-than fair value (LTFV) investigation, 5.71 percent,⁶ if there is no rate for the intermediate company(ies) involved in the transaction.⁷ Pursuant to 19 CFR 351.106(c)(2), we will instruct CBP to liquidate without regard to antidumping duties any entries produced and/or exported by SRF during the POR.

⁶ See Notice of Amended Final Antidumping Duty Determination of Sales at Less Than Fair Value and Antidumping Duty Order: Polyethylene Terephthalate Film, Sheet, and Strip from India, 67 FR 44175 (July 1, 2002) (Amended Final Determination).

⁷ See Antidumping Proceedings: Calculation of the Weighted-Average Dumping Margin and Assessment Proceedings; Final Modification, 77 FR 8101, 8102 (February 14, 2012).

We intend to issue instructions to CBP 15 days after publication of the final results of this review.

Cash Deposit Requirements

The following deposit requirements will be effective for all shipments of PET Film from India entered, or withdrawn from warehouse, for consumption on or after the date of publication of the final results of this administrative review, as provided for by section 751(a)(2)(C) of the Act: (1) The cash deposit rate for the company under review will be the rate established in the final results of this review (except, if the rate is zero or de minimis, no cash deposit will be required); (2) for previously reviewed or investigated companies not listed above, the cash deposit rate will continue to be the company-specific rate published for the most recent period; (3) if the exporter is not a firm covered in this review, a prior review, or the LTFV investigation, but the manufacturer is, the cash deposit rate will be the rate established for the most recent period for the manufacturer of the merchandise; and (4) the cash deposit rate for all other manufacturers or exporters is 5.71 percent.⁸ These cash deposit requirements, when imposed, shall remain in effect until further notice.

⁸ See Amended Final Determination.

Notification to Interested Parties Regarding the Reimbursement of Duties

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a final reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

These final results are issued and published in accordance with sections 751(a)(1) and 777(i)(1) of the Act, and 19 CFR 351.221.

Dated: March 10, 2020.
Christian Marsh,
Deputy Assistant Secretary for Enforcement and Compliance.

Appendix

List of Topics Discussed in the Decision Memorandum

I. Summary

II. List of Issues

III. Background

IV. Scope of the Order

V. Changes Made Since the Preliminary Results

VI. Discussion of Issues

Comment 1: Whether Commerce Should Continue to Grant All of Jindal's Post-Sale Price Adjustments

Comment 2: Whether to Revise Jindal's Home Market and Margin Programs

VII. Recommendation

[FR Doc. 2020-05311 Filed 3-13-20; 8:45 am]

BILLING CODE 3510-DS-P